DEPARTMENT OF THE INTERIOR

National Park Service

[NPS-PWR-GOGA-37445; PS.SPWLA0133.00.1]

Minor Boundary Revision at Golden Gate National Recreation Area

AGENCY: National Park Service, Interior.

ACTION: Notification of boundary revision.

SUMMARY: The boundary of Golden Gate National Recreation Area (Park) is modified to include 211.7 acres of land located in in San Mateo County, California, immediately adjoining the Park boundary. The National Park Service intends to purchase the properties in fee from the Peninsula Open Space Trust, a non-profit land trust.

DATES: The effective date of this boundary revision is December 31, 2024.

ADDRESSES: The boundary revision is depicted on Map No. 641/180428, dated February 14, 2024. This map is on file and available for inspection at the following locations: National Park Service, Land Resources Program, Interior Regions 8, 9, 10 and 12, 555 Battery Street, Suite 121, San Francisco, CA 94111, and National Park Service, Department of the Interior, 1849 C Street NW, Washington, DC 20240.

FOR FURTHER INFORMATION CONTACT: Chief Realty Officer, Truda Stella, National Park Service, Interior Regions 8, 9, 10 and 12, Land Resource Program Center, 555 Battery Street, Suite 121, San Francisco, CA 94111, telephone (206) 561-7978.

SUPPLEMENTARY INFORMATION: 16 U.S.C. 460bb-1 authorizes that, after advising the House Committee on Natural Resources and the Senate Committee on Energy and Natural Resources, the Secretary of the Interior may make minor revisions to the boundaries of the Park, when necessary, by publication of a revised drawing or other description in the Federal Register. The Committees have been notified of this boundary revision. The inclusion of these tracts in the Park boundary will address operational and management issues, provide preservation, and protect key natural resources in addition to expanding visitor recreational opportunities.

David Szymanski,
Regional Director, Interior Regions 8, 9, 10, and 12.

[FR Doc. 2024-31387 Filed 12-30-24; 8:45 am]

BILLING CODE 4312-52-P